ENVIRONMENTAL PROTECTION AGENCY

[EPA-HQ-OPPT-2018-0604; FRL-9993-22]

TSCA Science Advisory Committee on Chemicals (SACC); Notice of Rescheduled Public Meeting

AGENCY: Environmental Protection Agency (EPA).

ACTION: Notice.

SUMMARY: EPA is announcing the rescheduled meeting dates for the 4-day meeting of the Toxic Substances Control Act (TSCA) Science Advisory Committee on Chemicals (SACC) that had been previously scheduled for January to consider and review the draft Risk Evaluation for Colour Index (C. I.) Pigment Violet 29 (PV29) and associated documents. This in-person meeting will also include a general TSCA orientation for the TSCA SACC. A portion of the in-person meeting will be closed to the public for the committee's discussion of information claimed as confidential business information (CBI). As previously announced in April, the public is invited to comment on the draft risk evaluation for PV29 and related documents, including the draft charge questions, in advance of and during this peer review meeting. The TSCA SACC will consider these comments during their discussions.

DATES: Meeting: The 4-day meeting will be held from 9:00 a.m. to approximately 5:30 p.m. Eastern Time, June 18 to 21, 2019.

Comments: Submit your written comments, following the detailed instructions provided in Unit I.C. of this document, on or before May 17, 2019. This comment period was already announced in the Federal Register on April 17, 2019 (84 FR 16011; FRL-9990-36 and corrected by 84 FR 16485, April 19, 2019). As described in Unit I.C., EPA will also accept written comments at the start of meeting.

Requests to make oral comments during the meeting will be included on the meeting agenda if received on or before May 28, 2019. As described in Unit I.C., such requests may also be made up to and possibly during the meeting.

Special accommodations: For information on access or services for individuals with disabilities, and to request accommodation of a disability, please contact the DFO listed under FOR FURTHER INFORMATION CONTACT at least 10 days prior to the meeting to give EPA as much time as possible to process your request.

ADDRESSES: In-Person Meeting: The in-person meeting will be held at the Holiday Inn Rosslyn at Key Bridge, Rosslyn Ballroom, 1900 North Fort Myer Drive, Arlington, VA 22209. The meeting may also be available via webcast. Please refer to the TSCA SACC website at https://www.epa.gov/tsca-peer-review for information on how to access the webcast. Please note that the webcast is a supplementary public process provided only for convenience. If difficulties arise resulting in webcasting outages, the in-person meeting will continue as planned.

Comments. Submit your written comments, identified by docket identification (ID) number EPA-HQ-OPPT-2018-0604, by one of the following methods:

• Federal eRulemaking Portal: http://www.regulations.gov. Follow the online instructions for submitting comments. Do not submit electronically any information you consider to be Confidential Business Information (CBI) or other information whose disclosure is restricted by statute.

• Mail: OPPT Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

Requests to present oral comments, and requests for special accommodations. Submit requests to present oral comments or for special accommodations, to the DFO listed under FOR FURTHER INFORMATION CONTACT.

FOR FURTHER INFORMATION CONTACT: Dr. Todd Peterson, DFO, Office of Science Coordination and Policy (7201M), Environmental Protection Agency, 1200 Pennsylvania Ave. NW, Washington, DC 20460-0001; telephone number: (202) 564-6428; email address: peterson.todd@epa.gov.

SUPPLEMENTARY INFORMATION:

I. General Information

A. Does this action apply to me?

This action is directed to the public in general. This action may be of interest to persons who are interested in risk evaluations of chemical substances under the Toxic Substances Control Act (TSCA). Since other entities may also be interested in this risk evaluation, the Agency has not attempted to describe all the specific entities that may be affected by this action.

B. What should I consider as I prepare my comments for EPA?

1. Submitting CBI. Do not submit CBI information to EPA through http://www.regulations.gov or via email. If your comments contain any information that you consider to be CBI or otherwise protected, please contact the DFO listed under FOR FURTHER INFORMATION CONTACT to obtain special instructions before submitting your comments.

2. Tips for preparing your comments. When preparing and submitting your comments, see the commenting tips at http://www.epa.gov/dockets/comments.html.

C. How may I participate in the in-person meeting?

You may participate in the in-person peer review meeting by following the instructions in this unit. To ensure proper receipt by EPA, it is imperative that you identify docket ID number EPA-HQ-OPPT-2018-0604 in the subject line on the first page of your submissions.

1. Written comments. Written comments on the draft risk evaluation for PV29 and related documents should be submitted using the instructions in ADDRESSES and Unit I.B. Submitting written comments by the comment due date provides the TSCA SACC with the time necessary to review the written comments before the meeting. Anyone wishing to submit written comments at the meeting should contact the DFO listed under FOR FURTHER INFORMATION CONTACT before the date of the in-person meeting and must provide 30 copies to the DFO at the start of the meeting for the DFO to distribute to the TSCA SACC and the Agency at the meeting. The TSCA SACC will consider written comments during their discussions.

2. Oral comments. The Agency encourages each individual or group wishing to make brief oral comments to the TSCA SACC during the in-person meeting to submit their request to the DFO in order to be included on the meeting agenda. Requests to present oral comments will also be accepted until the date of the in-person meeting and, to the extent that time permits, the Chair of the TSCA SACC may permit the presentation of oral comments at the in-person meeting by interested persons who have not previously requested time. The request to present oral comments should identify the name of the individual making the presentation, the organization (if any) the individual will represent, and any requirements for audiovisual equipment.

Oral comments before the TSCA SACC during the in-person meeting are limited to approximately 5 minutes unless prior arrangements have been made with the DFO. In addition, each speaker should provide 30 copies of his or her comments and presentation to the DFO at the start of the meeting for the DFO to distribute to the TSCA SACC and the Agency at the meeting. The TSCA SACC will consider oral comments during their discussions.

3. Seating at the meeting. Seating at the meeting will be open and on a first-come basis.

II. Background

A. Purpose of the TSCA SACC

The Science Advisory Committee on Chemicals (SACC) was established by EPA in 2016 under TSCA, 15 U.S.C. 2601 et seq., as amended by the Frank R. Lautenberg Chemical Safety for the 21st Century Act, Public Law 114-182, 140 Stat. 448 (2016), and operates in accordance with the Federal Advisory Committee Act (FACA), 5 U.S.C. Appendix 2 (1972). The SACC supports activities under TSCA, the Pollution Prevention Act (PPA), 42 U.S.C. 13101 et seq., and other applicable statutes. The SACC provides expert independent scientific advice and recommendations to the EPA on the scientific and technical aspects of risk assessments, methodologies, and pollution prevention measures and approaches for chemicals regulated under TSCA.

The SACC is comprised of experts in: Toxicology; human health and environmental risk assessment; exposure assessment; and related sciences (e.g., synthetic biology, pharmacology, biotechnology, nanotechnology, biochemistry, biostatistics, PBPK modeling, computational toxicology, epidemiology, environmental fate, and environmental engineering and sustainability). The SACC currently consists of 26 members. When needed, the committee will be assisted in their reviews by ad hoc participants with specific expertise in the topics under consideration.

B. Purpose of This Public Meeting

EPA is announcing the rescheduled meeting dates for the TSCA SACC's public meeting to review PV29 that was previously announced in the Federal Register on November 30, 2018 (83 FR 61629) (FRL-9983-08). As previously announced, the public is invited to comment on the draft risk evaluation for PV29 and related documents, including the draft charge questions, in advance of and during this peer review meeting. The TSCA SACC will consider these comments during their discussions. See 83 FR 57473, November 15, 2018 (FRL-9986-45) and 84 FR 16011, April 17, 2019 (FRL-9990-36), as corrected by 84 FR 16485, April 19, 2019.

The focus of the TSCA SACC meeting is to peer review the Agency's draft risk evaluation of PV29. After the peer review process, EPA will consider reviewer comments and recommendations, and public comments to finalize the risk evaluation. The discussion of charge questions, for scope and clarity, originally planned for January 8, 2019, will be folded into the rescheduled in-person meeting.

As previously announced, approximately one hour of the TSCA SACC's in-person meeting will be closed to the public for the TSCA SACC to consider and discuss material that has been claimed as CBI provided to the TSCA SACC as background for the draft risk evaluation for PV29. In accordance with FACA section 10(d), 5 U.S.C. App. 2, and section (c)(4) of the Government in the Sunshine Act, 5 U.S.C. 552b, this approximately one-hour session of the TSCA SACC will be closed to the public to avoid the potential disclosure of CBI, which is protected from disclosure by statute. The Administrator's determination for a closed meeting is available in the docket.

C. TSCA SACC Documents and Meeting Minutes

EPA's draft risk evaluation for PV29, related supporting materials, and draft charge/questions to the TSCA SACC are available on the TSCA SACC website and in the meeting docket. In addition, the Agency will provide additional background documents (e.g., TSCA SACC members participating in this meeting and the meeting agenda) as the materials become available. You may obtain electronic copies of these documents, and certain other related documents that might be available at http://www.regulations.gov and the TSCA SACC website at https://www.epa.gov/tsca-peer-review.

TSCA SACC will prepare the Meeting Minutes and Final Report document summarizing its recommendations to the Agency approximately 90 days after the meeting. The meeting minutes will be posted on the TSCA SACC website and placed in the meeting docket.

Authority: 15 U.S.C. 2625(o) et seq.; 5 U.S.C Appendix 2 et seq.

Dated: May 1, 2019.
Hayley Hughes,
Director, Office of Science Coordination and Policy.

[FR Doc. 2019-09489 Filed 5-8-19; 8:45 am]

BILLING CODE 6560-50-P